DEPARTMENT OF THE INTERIOR

Bureau of Land Management

[CA-610-1610-DP]

Notice of Availability of the Record of Decision, West Mojave Plan, California

AGENCY: Bureau of Land Management, Interior.

ACTION: Notice of availability.

SUMMARY: In accordance with the National Environmental Policy Act, the Federal Land Policy and Management Act and Bureau of Land Management (BLM) management policies, the BLM announces approval of the West Mojave (WEMO) Plan and Record of Decision (ROD). The approved WEMO Plan/ROD amends the California Desert Conservation Area (CDCA) Plan by providing management direction for approximately 3.3 million acres of public lands administered by the BLM's California Desert District, located in Inyo, Kern, Los Angeles, and San Bernardino Counties in southern California. Approval of the WEMO Plan/ROD terminates all interim measures identified in the Consent Decree in Center for Biological Diversity, et al. v. BLM (C-00-0927 WHA (JCS)) with regard to the West Mojave Planning area.

DATES: The approved WEMO Plan is effective upon signing of the ROD.

ADDRESSES: The WEMO Plan/ROD is available on the BLM Web site, http://www.ca.blm.gov. Copies of the WEMO Plan/ROD are also available upon request from the District Manager, California Desert District Office, located at 22835 Calle San Juan De Los Lagos, Moreno Valley, CA 92553. Copies may be examined at the District Office in Moreno Valley, and at BLM's Ridgecrest Field Office, located at 300 S. Richmond Road, Ridgecrest CA 93555, and Barstow Field Office located at 2601 Barstow Road, Barstow CA 92311, during regular business hours from 7:45 a.m. to 4 p.m., Monday through Friday, except holidays.

FOR FURTHER INFORMATION CONTACT: Stephen Razo, California Desert District, at (951) 697-5217.

SUPPLEMENTARY INFORMATION: The approved WEMO Plan is associated with a multi-jurisdictional habitat conservation plan (HCP), encompassing 9.3 million acres in Inyo, Kern, Los Angeles, and San Bernardino counties, to be conducted under the lead jurisdiction of San Bernardino County and the City of Barstow. The ROD approves only the WEMO Plan, which applies to the Federal lands managed by BLM. Approval of the HCP is dependent on future local government actions.

An approved WEMO Plan and HCP will provide a streamlined program for public agencies and private parties to comply with requirements of the State and Federal Endangered Species Acts.

BLM, San Bernardino County, the City of Barstow, and many other entities cooperated or participated in the WEMO Plan's development. Those entities include three other counties, 10 other cities, the California Department of Fish and Game, the California Department of Transportation, the U.S. Fish and Wildlife Service, four U.S. military bases, and numerous non-governmental organizations and businesses. Extensive public involvement occurred during scoping, draft WEMO Plan/EIS, and proposed WEMO Plan/Final EIS reviews.

BLM's approval of the WEMO Plan/ROD enables BLM, its partners, and its stakeholders to begin implementing actions that will protect and conserve species and their habitats while providing for appropriate use of desert resources and the future growth and development of desert communities.

Dated: January 27, 2006.
John S. Mills,
Acting Deputy State Director, Natural Resources Division.

[FR Doc. E6-3758 Filed 3-14-06; 8:45 am]

BILLING CODE 4310-40-P